DEPARTMENT OF DEFENSE

Defense Acquisition Regulations System

[OMB Control Number 0704-0229]

Information Collection Requirement; Defense Federal Acquisition Regulation Supplement; Foreign Acquisition

AGENCY: Defense Acquisition Regulations System, Department of Defense (DoD).

ACTION: Notice and request for comments regarding a proposed extension of an approved information collection requirement.

SUMMARY: In compliance with Section 3506(c)(2)(A) of the Paperwork Reduction Act of 1995 (44 U.S.C. Chapter 35), DoD announces the proposed extension of a public information collection requirement and seeks public comment on the provisions thereof.

DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection for use through May 31, 2007. DoD proposes that OMB extend its approval for use for three additional years.

DATES: DoD will consider all comments received by March 23, 2007.

ADDRESSES: You may submit comments, identified by OMB Control Number 0704-0229, using any of the following methods:

• Federal eRulemaking Portal: http://www.regulations.gov. Follow the instructions for submitting comments.

• E-mail: dfars@osd.mil. Include OMB Control Number 0704-0229 in the subject line of the message.

• Fax: (703) 602-0350.

• Mail: Defense Acquisition Regulations System, Attn: Ms. Amy Williams, OUSD(AT&L)DPAP(DARS), IMD 3C132, 3062 Defense Pentagon, Washington, DC 20301-3062.

• Hand Delivery/Courier: Defense Acquisition Regulations System, Crystal Square 4, Suite 200A, 241 18th Street, Arlington, VA 22202-3402.

Comments received generally will be posted without change to http://www.regulations.gov, including any personal information provided.

FOR FURTHER INFORMATION CONTACT: Ms. Amy Williams, (703) 602-0328. The information collection requirements addressed in this notice are available on the World Wide Web at: http://www.acq.osd.mil/dpap/dars/dfars/index.htm. Paper copies are available from Ms. Amy Williams, OUSD(AT&L)DPAP(DARS), IMD 3C132, 3062 Defense Pentagon, Washington, DC 20301-3062.

SUPPLEMENTARY INFORMATION: Title, Associated Form, and OMB Number: Foreign Acquisition—Defense Federal Acquisition Regulation Supplement Part 225 and Related Clauses at 252.225; DD Form 2139; OMB Control Number 0704-0229.

Needs and Uses: DoD needs this information to ensure compliance with restrictions on the acquisition of foreign products imposed by statute or policy to protect the industrial base; to ensure compliance with U.S. trade agreements and memoranda of understanding that promote reciprocal trade with U.S. allies; and to prepare reports for submission to the Department of Commerce on the Balance of Payments Program.

Affected Public: Businesses or other for-profit and not-for-profit institutions.

Annual Burden Hours: 48,480 (48,385 reporting hours; 95 recordkeeping hours).

Number of Respondents: 20,485.

Responses Per Respondent: Approximately 8.

Number of Responses: 154,924.

Average Burden Per Response: .31 hours.

Frequency: On occasion.

Summary of Information Collection

DFARS 252.225-7000, Buy American Act-Balance of Payments Program Certificate, as prescribed in 225.1101(1), requires an offeror to identify, in its proposal, supplies that are not domestic end products, separately listing qualifying country and other foreign end products.

DFARS 252.225-7003, Report of Intended Performance Outside the United States and Canada-Submission with Offer, and 252.225-7004, Report of Intended Performance Outside the United States and Canada-Submission after Award, as prescribed in 225.7204(a) and (b), require offerors and contractors to submit a report addressing subcontracts to be performed outside the United States. The reporting threshold is $550,000 for contracts that exceed $11.5 million. The contractor may submit the report on DD Form 2139, Report of Contract Performance Outside the United States, or a computer-generated report that contains all information required by DD Form 2139.

DFARS 252.225-7005, Identification of Expenditures in the United States, as prescribed in 225.1103(1), requires contractors incorporated or located in the United States to identify, on each request for payment under contracts for supplies to be used, or for construction or services to be performed, outside the United States, that part of the requested payment representing estimated expenditures in the United States.

DFARS 252.225-7006, Quarterly Reporting of Actual Contract Performance Outside the United States, as prescribed at 225.7204(c) for use in solicitations and contracts with a value exceeding $550,000, requires reporting of subcontracts that exceed the simplified acquisition threshold and are performed outside the United States.

DFARS 252.225-7013, Duty-Free Entry, as prescribed in 225.1101(4), requires the contractor to provide information on shipping documents and customs forms regarding products that are eligible for duty-free entry.

DFARS 252.225-7018, Notice of Prohibition of Certain Contracts with Foreign Entities for the Conduct of Ballistic Missile Defense Research, Development, Test, and Evaluation, as prescribed in 225.7017-4, gives notice of the statutory prohibition on award of a contract to a foreign government or firm, if the contract provides for the conduct of research, development, test, or evaluation in connection with the Ballistic Missile Defense Program. The provision requires an offeror to indicate whether it is or is not a U.S. firm.

DFARS 252.225-7020, Trade Agreements Certificate, as prescribed in 225.1101(5), requires an offeror to list the item number and country of origin of any nondesignated country end product that it intends to furnish under the contract. This provision is used in all solicitations for products subject to the Trade Agreements Act.

DFARS 252.225-7025, Restriction on Acquisition of Forgings, as prescribed in 225.7102-4, requires the contractor to retain records showing compliance with the requirement that end items and their components delivered under the contract contain forging items that are of domestic manufacture only. The contractor must retain the records for 3 years after final payment and must make the records available upon request of the contracting officer. The contractor may request a waiver of this requirement in accordance with DFARS 225.7102-3.

DFARS 252.225-7032, Waiver of United Kingdom Levies-Evaluation of Offers, and 252.225-7033, Waiver of United Kingdom Levies, as prescribed in 225.1101(7) and (8), require an offeror to provide information to the contracting officer regarding any United Kingdom levies included in the offered price, and require the contractor to provide information to the contracting officer regarding any United Kingdom levies to be included in a subcontract that exceeds $1 million, before award of the subcontract.

DFARS 252.225-7035, Buy American Act-Free Trade Agreements-Balance of Payments Program Certificate, as prescribed in 225.1101(9), requires an offeror to list any qualifying country, Free Trade Agreement country, or other foreign end product that it intends to furnish under the contract.

DFARS 252.225-7016, Restriction on Acquisition of Ball and Roller Bearings, previously covered by OMB Clearance 0704-0229, no longer contains an information collection requirement. The revision to this clause published at 71 FR 14110 on March 21, 2006, eliminated the requirement for contractor retention of records showing compliance with the restriction until 3 years after final payment. In addition, DFARS 225.7009-3 no longer requires the contractor to submit a written plan for transitioning to domestically manufactured bearings, for a waiver under a multiyear contract or a contract exceeding 12 months.

Michele P. Peterson,
Editor, Defense Acquisition Regulations System.

[FR Doc. E7-737 Filed 1-19-07; 8:45 am]

BILLING CODE 5001-08-P